ENVIRONMENTAL PROTECTION AGENCY

[FRL-9220-2]

Availability of Draft NPDES General Permits MAG580000 and NHG580000 for Discharges From Publicly Owned Treatment Works Treatment Plants (POTW Treatment Plants) and Other Treatment Works Treating Domestic Sewage in the Commonwealth of Massachusetts and the State of New Hampshire

AGENCY: Environmental Protection Agency (EPA).

ACTION: Notice.

SUMMARY: The Director of the Office of Ecosystem Protection, EPA-New England, is issuing a notice of availability for public comment of the draft National Pollutant Discharge Elimination System (NPDES) general permits for certain Publicly Owned Treatment Works Treatment Plants (POTW treatment plants) and Other Treatment Works Treating Domestic Sewage (collectively, “facilities”) in the Commonwealth of Massachusetts (including both Commonwealth and Indian country lands) and the State of New Hampshire. Throughout this document, these two permits are collectively referred to as the “Publicly Owned Treatment Works General Permit” (“POTW GP” or the “General Permit”). The draft General Permits, upon final issuance, will replace the prior POTW GP which expired on September 23, 2010.

The draft POTW GP establishes Notice of Intent (NOI) requirements as well as effluent limitations, standards, and prohibitions for facilities that discharge to fresh and marine waters. Coverage under these General Permits is available to facilities in Massachusetts classified as minor facilities and to facilities in New Hampshire classified as major or minor facilities. Owners and/or operators of these facilities, including those facilities authorized to discharge under the current General Permit, will be required to submit an NOI to be covered by the reissued POTW GP to both EPA-New England and the appropriate State agency, in accordance with the notification requirements of the General Permit. Following EPA and the State review of the NOI, the facility will receive a written notification from EPA of permit coverage and authorization to discharge under the General Permit. The eligibility requirements for permit coverage, including the requirement that a facility have a receiving water dilution factor equal to or greater than 50, are provided in the General Permit. The General Permit does not cover new sources as defined under 40 CFR 122.2.

The purpose of this document is to solicit public comments on the proposed General Permits.

Public Comment Period: The public comment period is from November 4, 2010 to December 6, 2010. Interested persons may submit written comments on the draft General Permit to the EPA-Region I at the address listed below. Within the comment period, interested persons may also request, in writing, that EPA hold a public hearing pursuant to 40 CFR Section 124.12, concerning the draft General Permits. Such requests shall state the nature of the issues proposed to be raised at the hearing. A public hearing may be held at least thirty days after public notice whenever the Regional Administrator finds that response to this notice indicates significant public interest. In reaching a final decision on this draft permit, the Regional Administrator will respond to all significant comments and make responses available to the public at EPA's Boston office. All comments and requests for public hearings must be postmarked or delivered before midnight December 6, 2010, the close of the public comment period. All public comments or requests for a public hearing must be submitted to the address below.

ADDRESSES: Written comments on the draft General Permit may be hand delivered or mailed to Meridith Timony, EPA-Region 1, Office of Ecosystem Protection, OEP06-1, 5 Post Office Square-Suite 100, Boston, Massachusetts 02109-3912; or sent via e-mail to Timony.meridith@epa.gov. No facsimiles (faxes) will be accepted.

FOR FURTHER INFORMATION CONTACT: For further information contact Meridith Timony at 617-918-1533, between the hours of 9 a.m. and 5 p.m., Monday through Friday, excluding holidays. The draft General Permits are based on an administrative record available for public review at EPA-Region 1, Office of Ecosystem Protection, 5 Post Office Square-Suite 100, Boston, Massachusetts 02109-3912, Monday through Friday from 9 a.m.-5 p.m., excluding holidays. The draft General Permit and a Fact Sheet may also be viewed over the Internet via the EPA-Region I Web site at http://www.epa.gov/region1/npdes/potw-gp.html. To obtain a paper copy of the documents, please contact Meridith Timony using the contact information provided above. A reasonable fee may be charged for copying requests.

Dated: October 19, 2010.
Ira W. Leighton,
Acting Regional Administrator, Region 1.

[FR Doc. 2010-27763 Filed 11-3-10; 8:45 am]

BILLING CODE 6560-50-P